INTERNATIONAL TRADE COMMISSION

Agency Information Collection Activities; Proposed Collection; Comment Request

AGENCY: U.S. International Trade Commission.

ACTION: Notice of proposed collection; comment request.

SUMMARY: The proposed information collection is a 3-year extension, pursuant to the Paperwork Reduction Act of 1995 (Public Law 104-13), of the current “generic clearance” (approved by the Office of Management and Budget under control No. 3117-0016) under which the Commission can issue information collections (specifically, producer, importer, purchaser, and foreign producer questionnaires and certain institution notices) for the following types of import injury investigations: countervailing duty, antidumping, escape clause, market disruption, NAFTA safeguard, and “interference with programs of the USDA.” Comments concerning the proposed information collections are requested in accordance with 5 CFR 1320.8(d); such comments are described in greater detail in the section of this notice entitled supplementary information.

DATES: To be assured of consideration, written comments must be received not later than April 19, 2002.

ADDRESSES: Signed comments should be submitted to Marilyn Abbott, Acting Secretary, U.S. International Trade Commission, 500 E Street SW., Washington, DC 20436.

FOR FURTHER INFORMATION CONTACT: Copies of the proposed information collections (and related instructions) and draft Paperwork Reduction Act Submission and Supporting Statement to be submitted to the Office of Management and Budget may be obtained from either of the following persons: Debra Baker, Office of Investigations, U.S. International Trade Commission, telephone 202-205-3180, or Lynn Featherstone, Director, Office of Investigations, U.S. International Trade Commission, telephone 202-205-3160. The draft Supporting Statement is also on the Commission's website (at http://info.usitc.gov/OINV/INVEST/OINVINVEST.NSF).

SUPPLEMENTARY INFORMATION:

Request for Comments

Comments are solicited as to (1) whether the proposed information collection is necessary for the proper performance of the functions of the agency, including whether the information will have practical utility; (2) the accuracy of the agency's estimate of the burden of the proposed information collection, including the validity of the methodology and assumptions used; (3) the quality, utility, and clarity of the information to be collected; and (4) minimization of the burden of the proposed information collection on those who are to respond (including through the use of appropriate automated, electronic, mechanical, or other technological forms of information technology, e.g., permitting electronic submission of responses).

Summary of the Proposed Information Collections

(1) Need for the Proposed Information Collections

The Commission conducts countervailing duty and antidumping investigations under provisions of Title VII of the Tariff Act of 1930 to determine whether domestic industries are being materially injured or threatened with material injury by reason of imports of products which are subsidized (countervailing duty cases) or sold at less than fair value (antidumping cases). Five-year reviews of antidumping and countervailing duty orders and suspended investigations are conducted to determine whether revocation of the existing orders would be likely to lead to continuation or recurrence of material injury to the domestic industry. The Commission conducts escape-clause investigations to determine whether increased imports are a substantial cause of serious injury or threat of serious injury to a domestic industry. NAFTA safeguard investigations are conducted under the authority of the North American Free Trade Agreement and examine whether increased imports from Canada or Mexico are a substantial cause of serious injury or threat of serious injury to a domestic industry. Market disruption investigations are conducted to determine whether imports of an article produced in a Communist country are causing material injury to a domestic industry. The Commission also conducts investigations to determine whether imports are interfering with programs of the Department of Agriculture for agricultural commodities or products. Specific investigations are almost always instituted in response to petitions received from U.S. manufacturers of the product(s) in question. Data received in response to the questionnaires (specifically, producer, importer, purchaser, and foreign producer questionnaires) issued under the terms of the proposed generic clearance are consolidated and form much of the statistical base for the Commission's determinations in these statutorily-mandated investigations.

Included in the proposed generic clearance are the institution notices for the five-year reviews of antidumping and countervailing duty orders and suspended investigations. Responses to the institution notices will be evaluated by the Commission and form much of the record for its determination to conduct either an expedited or full review.

(2) Information Collection Plan

Using the sample “generic clearance” questionnaires as a guide, questionnaires for specific investigations are prepared and are sent to U.S. producers manufacturing the product(s) in question. Importer and purchaser questionnaires are also sent to all significant importers/purchasers of the product(s). Finally, all foreign manufacturers of the product(s) in question that are represented by counsel are sent questionnaires, and, in addition, the Commission attempts to contact any other foreign manufacturers, especially if they export the product(s) in question to the United States. Firms receiving questionnaires include businesses, farms, and/or other for-profit institutions; responses are mandatory.

The institution notices for the five-year reviews are published in the Federal Register and solicit comment from interested parties (i.e., U.S. producers within the industry in question as well as labor unions or representative groups of workers, U.S. importers and foreign exporters, and involved foreign country governments).

(3) Description of the Information To Be Collected

Producer questionnaires generally consist of the following four parts: (part I) general questions relating to the organization and activities of the firm; (part II) data on capacity, production, inventories, employment, and the quantity and value of the firm's shipments and purchases from various sources; (part III) financial data, including income-and-loss data on the production in question, data on asset valuation, research and development expenses, and capital expenditures; and (part IV) pricing and market factors. (Questionnaires may, on occasion, also contain part V, an abbreviated version of the above-listed parts, used for gathering data on additional product categories.)

Importer questionnaires generally consist of three parts: (part I) general questions relating to the organization and activities of the firm; (part II) data on the firm's imports and the shipment and inventories of its imports; and (part III) pricing and market factors similar to that requested in the producer questionnaire.

Purchaser questionnaires generally consist of five parts: (part I) general questions relating to the organization and activities of the firm; (part II) data concerning the purchases of the product by the firm; (part III) market characteristics and purchasing practices; (part IV) comparisons between imported and U.S.-produced product; and (part V) actual purchase prices for specific types of domestic and subject imported products and the names of the firm's vendors.

Foreign producer questionnaires generally consist of (part I) general questions relating to the organization and activities of the firm; (part II) data concerning the firm's manufacturing operations; and set reviews include 11 specific requests for information that firms are to provide if their response is to be considered by the Commission.

The notices of institution for the five-year reviews include 11 specific requests for information that firms are to provide if their response is to be considered by the Commission.

The Commission solicits input from petitioners and other potential recipients when preparing questionnaires for individual investigations. Further, the Commission has formalized the process where interested parties comment on data collection and draft questionnaires in final phase countervailing duty and antidumping investigations (including the 5-year reviews). Interested parties are provided approximately 2 weeks to provide comments to the Commission on the draft questionnaires. All efforts are made to minimize burden to the firms that will be receiving the questionnaires.

(4) Estimated Burden of the Proposed Information Collection

The Commission estimates that information collections issued under the requested generic clearance will impose an average annual burden of 143,000 burden hours on 3,500 respondents (i.e., recipients that provide a response to the Commission's questionnaires or the notices of institution of five-year reviews). Table 1 lists the projected annual burden for each type of information collection for the period August 2002-July 2005. As indicated in table 1, the caseload estimates are derived from the current Commission budget estimates. The caseload is, however, expected to vary from year to year, with the highest number of cases falling into FY 2005 (which roughly corresponds to the August 2004-July 2005 period). Table 1 also lists projected annual burden figures for August 2004-July 2005. It is these figures that are listed on the Form 83-I to ensure that the Commission response burden will remain below the approved burden total in any one year.

Table 1.—Projected Annual Burden Data, by Type of Information Collection, August 2002-July 2005
Item | Producer question-naires ¹ | Importer question-naires ² | Purchaser question-naires ³ | Foreign producer question-naires ⁴ | Institution notices for 5 year reviews ⁵ | Total
Estimated burden hours imposed annually for August 2002-July 2005
Number of respondents | 887 | 1,186 | 778 | 639 | 24 | 3,514
Frequency of response | 1 | 1 | 1 | 1 | 1 | 1
Total annual responses | 887 | 1,186 | 778 | 639 | 24 | 3,514
Hours per response | 57.5 | 44.0 | 28.0 | 28.0 | 7.4 | 40.7
Total hours | 51,002 | 52,184 | 21,784 | 17,892 | 178 | 143,040
Estimated burden hours imposed for August 2004-July 2005 ⁶
Number of respondents | 1,278 | 1,708 | 1,264 | 920 | 46 | 5,216
Frequency of response | 1 | 1 | 1 | 1 | 1 | 1
Total annual responses | 1,278 | 1,708 | 1,264 | 920 | 46 | 5,216
Hours per response | 57.5 | 44.0 | 28.0 | 28.0 | 7.4 | 40.3
Total hours | 73,485 | 75,152 | 35,392 | 25,760 | 340 | 210,129
¹ Producer questionnaires.—Estimates based upon the following variables: number of respondents (anticipated caseload (x) number of producer respondents per case) and hours per response (responding firm burden (+) outside review burden (+) third-party disclosure burden). See definitions below. Responding firm burden accounts for 91 percent of the total producer questionnaire burden (52.3 hours per response), outside review burden accounts for 6 percent of the total burden, and third-party disclosure burden accounts for the remaining 3 percent. (The averages per questionnaire of the outside review and third-party disclosure burdens are not listed here since they are incurred only for the questionnaires of parties; such averages for all questionnaires are not meaningful.)
² Importer questionnaires.—Estimates based upon the following variables: number of respondents (anticipated caseload (x) number of importer respondents per case) and hours per response (responding firm burden (+) outside review burden (+) third-party disclosure burden). See definitions below. Responding firm burden accounts for 98 percent of the total importer questionnaire burden (43.1 hours per response), outside review burden and third-party disclosure burden each account for about 1 percent of the total burden. (The averages per questionnaire of the outside review and third-party disclosure burdens are not listed here since they are incurred only for the questionnaires of parties; such averages for all questionnaires are not meaningful.)
³ Purchaser questionnaires.—Estimates based upon the following variables: number of respondents (anticipated caseload (x) number of purchaser respondents per case) and hours per response (responding firm burden). See definitions below. Purchasers are not interested parties to investigations by statute and rarely engage outside counsel. Therefore, there is no measurable outside review burden nor third-party disclosure burden for purchasers.
⁴ Foreign producer questionnaires.—Estimates based upon the following variables: number of respondents (anticipated caseload (x) number of foreign producer respondents per case) and hours per response(responding firm burden (+) outside review burden (+) third-party disclosure burden). See definitions below. Responding firm burden accounts for 34 percent of the total foreign producer questionnaire burden (35.9 hours per response), outside review burden accounts for another 34 percent, and third-party disclosure burden accounts for 32 percent of the total burden.
⁵ Institution notices for 5-year reviews.—Estimates based upon the following variables: anticipated five-year review caseload, number of respondents to each notice, and responding firm burden. The Commission based its estimate of the number of respondents upon the number of responses per review received to date. Responding firm burden is estimated based on a comparison of the amount of information contained in notices received to date to completed producer questionnaires.
⁶ Twelve-month period during which the greatest response burden is anticipated.
Note.—Above estimates include questionnaires for specific investigations where the mailing list consists of fewer than 10 firms. In such instances the majority or all firms within the industry under investigation may be said to receive questionnaires. According to the Paperwork Reduction Act of 1995, “(a)ny collection of information addressed to all or a substantial majority of an industry is presumed to involve ten or more persons.”
DEFINITIONS AND METHODOLOGY
Anticipated caseload.—Derived from current Commission budget estimates.
Number of respondents per case.—Defined as the number of firms which return completed (see note 3 to table 3) questionnaires to the Commission. Current estimates of “number of respondents per case” for the questionnaires were derived, in part, from the number of respondents to Commission questionnaires that were issued under the current generic clearance.
Responding firm burden.—Defined as the time required by the firm which received the questionnaire to review instructions, search data sources, and complete and review its response. Commission questionnaires do not impose the burden of developing, acquiring, installing and utilizing technology and systems, nor require adjusting existing methodology or training personnel. Current estimates of “responding firm burden” for the questionnaires were derived from the actual burden reported by firms that responded to Commission questionnaires issued under the current generic clearance.
Outside review burden.—Time devoted by outside legal and financial advisors to reviewing questionnaires completed by the responding firms who are their clients prior to submitting them to the Commission. Commission staff conducted a survey of fewer than 10 law firms which have appeared before the Commission to derive a “petitioner” review burden estimate per party questionnaire and a “respondent” review burden estimate. Staff also reviewed a number of past investigations (33) to determine the average number of “parties” (i.e., respondent interested parties who were represented by outside counsel) per investigation and calculated the total number of review burden hours that would be incurred annually. The “petitioner/producer” review burden was applied to the producer questionnaire burden figures and the “respondent” review burden was divided among the importer and foreign producer questionnaires.
Third-party disclosure burden.—Time required for outside legal advisors to serve their clients' questionnaires on other parties to the investigation or review under an administrative protective order. Commission staff included in its survey of law firms a request for the average third-party disclosure burden and using the same methodology described above for outside review burden applied the third-party disclosure burden to the hours per response figures for the producer, importer, and foreign producer questionnaires.

The Commission further estimates that it costs responding firms $79.94 per burden hour to complete a specific questionnaire issued under the generic clearance. (This estimate is based upon actual costs reported by respondents to questionnaires issued under the current generic clearance.) More complete information concerning costs to respondents, including costs incurred for the purchase of services, and estimates of the annualized cost to the Commission are presented in the draft Supporting Statement available from the Commission. There is no known capital and start-up cost component imposed by the proposed information collections.

(5) Information Technology

The Commission's collection of data through its questionnaires does not currently involve the use of automated, electronic, mechanical, or other technological collection techniques or other forms of information technology. Completed questionnaires are almost always returned to the Commission in paper-form. While the Commission has explored the use of alternative methods of submission, it has proved most expedient to receive paper copies for a number of reasons. (The draft Supporting Statement available from the Commission addresses this issue in greater detail.) However, while there are certain impediments to the easy receipt of data in electronic form, the Commission will, and has in the past, accept electronic submissions when large amounts of “repetitive” data are being requested. Further, the Commission now makes the questionnaires used in specific investigations available to firms on its website in both Word Perfect and pdf formats. Likewise, it is the Commission's experience that it is most expedient that the information provided in response to its notices of institution for the five-year reviews be submitted in document form directly to its Office of the Secretary.

By order of the Commission.
Issued: February 5, 2002.
Marilyn R. Abbott,
Acting Secretary.

[FR Doc. 02-3197 Filed 2-8-02; 8:45 am]

BILLING CODE 7020-02-P